INTERNATIONAL TRADE COMMISSION

[Investigation Nos. 731-TA-1224-1225 (Preliminary)]

Ferrosilicon from Russia and Venezuela

Determination

On the basis of the record ¹ developed in the subject investigations, the United States International Trade Commission (Commission) determines, pursuant to section 733(a) of the Tariff Act of 1930 (19 U.S.C. 1673b(a)) (the Act), that there is a reasonable indication that an industry in the United States is materially injured by reason of imports from Russia and Venezuela of ferrosilicon, provided for in subheadings 7202.21.10, 7202.21.50, 7202.21.75, 7202.21.90, and 7202.29.00 of the Harmonized Tariff Schedule of the United States, that are alleged to be sold in the United States at less than fair value (LTFV).

¹ The record is defined in sec. 207.2(f) of the Commission's Rules of Practice and Procedure (19 CFR 207.2(f)).

Commencement of Final Phase Investigation

Pursuant to section 207.18 of the Commission's rules, the Commission also gives notice of the commencement of the final phase of its investigations. The Commission will issue a final phase notice of scheduling, which will be published in the Federal Register as provided in section 207.21 of the Commission's rules, upon notice from the Department of Commerce (Commerce) of an affirmative preliminary determination in the investigation under section 733(b) of the Act, or, if the preliminary determination is negative, upon notice of an affirmative final determination in that investigation under section 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On July 19, 2013, a petition was filed with the Commission and Commerce by Globe Specialty Metals, Inc. (“GSM”), New York, New York; CC Metals and Alloys, LLC (“CCMA”), Calvert City, Kentucky; the United Steel, Paper and Forestry, Rubber, Manufacturing, Energy, Allied Industrial and Service Workers International Union (“USW”); and the International Union, United Automobile, Aerospace and Agricultural Implement Workers of America (“UAW”), alleging that an industry in the United States is materially injured and threatened with material injury by reason of LTFV imports of ferrosilicon from Russia and Venezuela. Accordingly, effective July 19, 2013, the Commission instituted antidumping duty investigation nos. 731-TA-1224-1225 (Preliminary).

Notice of the institution of the Commission's investigations and of a public conference to be held in connection therewith was given by posting copies of the notice in the Office of the Secretary, U.S. International Trade Commission, Washington, DC, and by publishing the notice in the Federal Register of July 25, 2013 (78 FR 44969). The conference was held in Washington, DC, on August 9, 2013, and all persons who requested the opportunity were permitted to appear in person or by counsel.

The Commission transmitted its determinations in these investigations to the Secretary of Commerce on September 3, 2013. The views of the Commission are contained in USITC Publication 4426 (September 2013), entitled Ferrosilicon from Russia and Venezuela: Investigation Nos. 731-TA-1224-1225 (Preliminary).

Issued: September 3, 2013.
By order of the Commission.
Lisa R. Barton,
Acting Secretary to the Commission.

[FR Doc. 2013-21842 Filed 9-6-13; 8:45 am]

BILLING CODE 7020-02-P